DEPARTMENT OF THE INTERIOR

Bureau of Reclamation

Upper Rio Grande Basin Water Operations Review, NM; Notice of Extension

AGENCY: Bureau of Reclamation, Interior.

ACTION: Notice of extension of public comment period for thirty days.

SUMMARY: Notice is hereby given that the comment period for the Draft Environmental Impact Statement (DEIS) for the Upper Rio Grande Water Operations Review, DES-05-80, is extended an additional 30 days to April 20, 2006.

DATES: The end of the public comment period, as noted in the Federal Register (71 FR 3323) on January 20, 2006, was March 21, 2006. The public comment period is now extended to April 20, 2006.

ADDRESSES: Written comments on the DEIS should be addressed to Valda Terauds, ALB-707, Bureau of Reclamation, Albuquerque Area Office, 555 Broadway, NW., Suite 100, Albuquerque, New Mexico 87102; faxogram (505) 462-3593; e-mail: vterauds@uc.usbr.gov. Our practice is to make comments, including names and home addresses of respondents, available for public review. Individual respondents may request that we withhold their home address from public disclosure, which we will honor to the extent allowable by law. If you wish us to withhold your name and/or address, you must state this prominently at the beginning of your comment. We will make all submissions from organizations or businesses, and from individuals identifying themselves as representatives or officials of organizations or businesses, available for public disclosure in their entirety.

FOR FURTHER INFORMATION CONTACT: Valda Terauds, Resource Management Planner, (505) 462-3584.

Dated: March 7, 2006.
Roger Slater,
Acting Regional Director—UC Region, Bureau of Reclamation.

[FR Doc. E6-4306 Filed 3-23-06; 8:45 am]

BILLING CODE 4310-MN-P